DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by November 2, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Agricultural Resource Management and Chemical Use Surveys—Substantive Change.

OMB Control Number: 0535-0218.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The National Agricultural Statistics Service (NASS) is requesting a substantive change to the ARMS and Chemical Use Survey information collection request (OMB No. 0535-0218) for the 2022 ARMS Phase 3 Surveys. The change is needed to accommodate the addition of the 2022 ARMS Phase 3 questionnaires. There will be two versions of the ARMS Phase 3 questionnaires: The Cost and Returns Report and Wheat Production Practice and Cost Report.

In January, 2023, NASS will be conducting the 2022 Census of Agriculture (0535-0226) which has a mandatory reporting requirement. In addition, NASS will be conducting the 2022 Agricultural Resource Management Survey (ARMS) Phase 3 which has a voluntary reporting requirement. Both of these surveys collect whole farm data for the calendar year of 2022. The entire ARMS 3 sample is included in the Census of Agriculture population. Both versions will contain the questions from the Census of Agriculture questionnaire with the unique questions asked by the ARMS 3 questionnaires.

This change will not change the approved burden, which includes additional Phase 3 samples in order to collect data from additional historically underserved producer groups. Collecting more data from these groups will support President Biden's and USDA's priority to advance racial justice, equity, and opportunity by providing more detailed data and research on the socioeconomic characteristics of farmers and ranchers in the United States to ensure all USDA policies and decisions are inclusive of all people the Department serves. In order to meet these objectives, it is essential to modify the sampling methodology for the ARMS to gather additional information from historically underserved groups. This effort will ensure USDA is able to provide data about the financial well-being and other characteristics for historically underserved groups.

Need and Use of the Information: These changes will allow useful and relevant economic and wheat enterprise data to be collected.

Description of Respondents: Farms and Ranches.

Number of Respondents: 105,850.

Frequency of Responses: Reporting: Less than five times per year.

Total Burden Hours: 109,277.

Levi S. Harrell,
Departmental Information Collection Clearance Officer.

[FR Doc. 2022-21381 Filed 9-30-22; 8:45 am]

BILLING CODE 3410-20-P